DEPARTMENT OF HEALTH AND HUMAN SERVICES

Centers for Disease Control and Prevention

[CDC-2013-0022; Docket Number NIOSH-153-B]

Issuance of Final Guidance Publications

AGENCY: National Institute for Occupational Safety and Health (NIOSH) of the Centers for Disease Control and Prevention (CDC), Department of Health and Human Services (HHS).

ACTION: Notice of issuance of final guidance publications.

SUMMARY: The National Institute for Occupational Safety and Health (NIOSH) of the Centers for Disease Control and Prevention (CDC), announces the availability of the following 15 Skin Notation Profiles [DHHS (NIOSH) Publication Nos. 2015-191 to 2015-195 and 2015-226 to 2015-235]:

Substance(s)

Aldrin: http://www.cdc.gov/niosh/docs/2015-191/pdfs/f15_snp_aldrin_2015-191.pdf.

Aniline: http://www.cdc.gov/niosh/docs/2015-192/pdfs/f15_snp_aniline_2015-192.pdf.

Azinphos-methyl: http://www.cdc.gov/niosh/docs/2015-235/pdfs/f15_snp_2015-235.pdf.

Captafol: http://www.cdc.gov/niosh/docs/2015-193/pdfs/f15_snp_captafol_2015-193.pdf.

Chlordane: http://www.cdc.gov/niosh/docs/2015-229/pdfs/f15_snp_2015-229.pdf.

Dieldrin: http://www.cdc.gov/niosh/docs/2015-229/pdfs/f15_snp_2015-229.pdf.

Dinitro-o-cresol: http://www.cdc.gov/niosh/docs/2015-195/pdfs/f15_snp_dinitro-o-cresol_2015-195.pdf.

Endrin: http://www.cdc.gov/niosh/docs/2015-233/pdfs/f15_snp_2015-233.pdf.

Methyl parathion: http://www.cdc.gov/niosh/docs/2015-231/pdfs/f15_snp_2015-231.pdf.

Nicotine: http://www.cdc.gov/niosh/docs/2015-234/pdfs/f15_snp_2015-234.pdf.

Parathion: http://www.cdc.gov/niosh/docs/2015-232/pdfs/f15_snp_2015-232.pdf.

Phorate: http://www.cdc.gov/niosh/docs/2015-230/pdfs/f15_snp_2015-230.pdf.

Phosdrin: http://www.cdc.gov/niosh/docs/2015-226/pdfs/f15_snp_2015-226.pdf.

Tetraethyl dithionopyrophosphate (TEDP): http://www.cdc.gov/niosh/docs/2015-227/pdfs/f15_snp_2015-227.pdf.

Tetraethyl pyrophosphate (TEPP): http://www.cdc.gov/niosh/docs/2015-228/pdfs/f15_snp_2015-228.pdf.

ADDRESSES: These documents may be obtained at the following link: http://www.cdc.gov/niosh/topics/skin/skin-notation_profiles.html.

FOR FURTHER INFORMATION CONTACT: Naomi Hudson, NIOSH, Robert A. Taft Laboratories, 1090 Tusculum Avenue, MS C-32, Cincinnati, OH 45226. (513) 533-8388 (not a toll free number). Email: iuz8@cdc.gov.

Dated: October 5, 2015.
John Howard,
Director, National Institute for Occupational Safety and Health, Centers for Disease Control and Prevention.

[FR Doc. 2015-25974 Filed 10-9-15; 8:45 am]

BILLING CODE 4163-19-P